DEPARTMENT OF COMMERCE

National Oceanic and Atmospheric Administration

[I.D. 041202A]

Proposed Information Collection; Comment Request; Social Science Data for Alaska Fisheries

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before June 17, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Jennifer Sepez, Anthropologist, Alaska Fisheries Science Center, 7600 Sand Point Way NE, Seattle, WA 98115-0070 (Jennifer.Sepez@noaa.gov).

SUPPLEMENTARY INFORMATION:

I. Abstract

Social science data for selected Alaska fisheries will be collected for communities and individual participants involved in the following sectors: commercial harvesting and processing, sport-fishing, and subsistence. In general, the questions asked will be about the social aspects of fisheries and impacts on individuals and communities. The data collected will include information on topics such as fishery participation and impacts, life histories, community structure and dynamics, knowledge and perceptions, decision-making criteria, and geographical distribution. This information will be used to (1) describe and analyze the social aspects of fisheries, (2) monitor the social impacts of fisheries, (3) analyze the social impacts of current management measures; and (4) analyze the social impacts of alternative management measures.

The large scale and wide geographic area relevant to Alaska fisheries will not permit fieldwork in every fishing community. However, a goal of the research over a five-year period will be to conduct fieldwork in each general region and in representative communities.

II. Method of Collection

The data will be collected principally by the National Marine Fisheries Service (NMFS) social scientists and contractors, and will include interviews, surveys, and focus groups. In-depth interviews and focus groups generally will be administered in person and on-site in the fishing community, or by telephone. Surveys may be administered in person on-site, or may additionally be conducted by mail, telephone, or Internet.

III. Data

OMB Number: None.

Form Number: None.

Type of Review: Regular submission.

Affected Public: Individuals or households, business or other for-profit organizations, and State, Local, or Tribal government (communities and individuals participating in fisheries in Alaska).

Estimated Number of Respondents: 1500 (100 in-depth interviews; and 1,400 brief interviews or surveys).

Estimated Time Per Response: 1 hour per in-depth interview; and 30 minutes per brief interview or survey.

Estimated Total Annual Burden Hours: 800.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 11, 2002.
Madeleine Clayton,
Departmental Paperwork Clearance Officer, Office of the Chief Information Officer.

[FR Doc. 02-9350 Filed 4-16-02; 8:45 am]

BILLING CODE 3510-22-S